DEPARTMENT OF HEALTH AND HUMAN SERVICES

National Institutes of Health

Government-Owned Invention; Availability for Licensing

AGENCY: National Institutes of Health, HHS.

ACTION: Notice.

SUMMARY: The invention listed below is owned by an agency of the U.S. Government and is available for licensing in the U.S. to achieve expeditious commercialization of results of federally-funded research and development. Foreign patent applications are filed on selected inventions to extend market coverage for companies and may also be available for licensing.

FOR FURTHER INFORMATION CONTACT: Licensing information may be obtained by communicating with the indicated licensing contact at the Technology Transfer and Intellectual Property Office, National Institute of Allergy and Infectious Diseases, 5601 Fishers Lane, Rockville, MD 20852; tel. 301-496-2644. A signed Confidential Disclosure Agreement will be required to receive copies of unpublished scientific data.

SUPPLEMENTARY INFORMATION: Technology description follows.

Polyvalent Influenza Virus-Like Particles (VLPs) and Use as Vaccines

Description of Technology: This virus-like particle (VLP) vaccine technology for influenza viruses, based on a mixture of VLPs expressing the hemagglutinin protein or the neuraminidase protein from influenza virus strains belonging to different virus subtypes, has demonstrated broad protection against lethal challenge in mice with various influenza virus strains and virus subtypes. Results from ferret and mouse studies demonstrate broad heterosubtypic protection against various influenza virus subtypes further supporting and strengthening the proposed application of this technology as a universal influenza virus vaccine.

This technology is available for licensing for commercial development in accordance with 35 U.S.C. 209 and 37 CFR part 404, as well as for further development and evaluation under a research collaboration.

Potential Commercial Applications:

• Vaccines

Competitive Advantages:

• Broad/universal protection against influenza viruses

• does not require reformulating vaccine each year as is currently necessary with vaccines available on the market

• can potentially provide protection against novel influenza viruses that may arise in the future, including potentially pandemic influenza viruses

Inventors: Dr. Jeffery Taubenberger of NIAID.

Publications: Schwartzman, et al. An Intranasal Virus-Like Particle Vaccine Broadly Protects Mice from Multiple Subtypes of Influenza A Virus. 2015. MBio. 6(4): e01044-15.

Intellectual Property: HHS Reference No. E-195-2014, U.S. Provisional Application No. 62/014,814; PCT/US2015/029843.

Licensing Contact: Dr. Jenish Patel, (240) 669-2894, jenish.patel@nih.gov.

Collaborative Research Opportunity: The National Institute of Allergy and Infectious Diseases is seeking statements of capability or interest from parties interested in collaborative research to further develop, evaluate or commercialize this invention, especially for GMP manufacture and clinical evaluation. For collaboration opportunities, please contact Dr. Jenish Patel, (240) 669-2894, jenish.patel@nih.gov.

Dated: November 14, 2016.
Suzanne Frisbie,
Deputy Director, Technology Transfer and Intellectual Property Office, National Institute of Allergy and Infectious Diseases.

[FR Doc. 2016-27676 Filed 11-16-16; 8:45 am]

BILLING CODE 4140-01-P